DEPARTMENT OF COMMERCE

International Trade Administration

[A-580-841]

Structural Steel Beams From Korea: Final Results of Changed Circumstances Review

AGENCY: Import Administration, International Trade Administration, Department of Commerce.

ACTION: Notice of final results of changed circumstances review.

SUMMARY: On March 21, 2001, the Department of Commerce (“Department”) published the preliminary results of its changed circumstances review examining whether Inchon Iron & Steel Co., Ltd. (“Inchon”) is the successor-in-interest to the merger of Inchon Iron & Steel Co. Ltd. and Kangwon Industries, Ltd. (“Kangwon”). See Structural Steel Beams from Korea, Preliminary Results of Changed Circumstances Antidumping Duty Administrative Review, 66 FR 15834 (March 21, 2001) (“Preliminary Results”). We gave interested parties 21 days to comment on our preliminary results. However, no interested parties have provided comments and no request for a hearing has been received by the Department. We have not changed our results from those presented in the preliminary results of the review.

As a result of this review, the Department finds that Inchon is the successor-in-interest to the merger of Inchon and Kangwon, and thus, Inchon should retain the deposit rate assigned to Inchon by the Department for all entries of subject merchandise produced or exported by the post-merger entity.

EFFECTIVE DATE: June 29, 2001.

FOR FURTHER INFORMATION CONTACT: Stephen Shin, Office of CVD/AD Enforcement Group III, Import Administration, International Trade Administration, U.S. Department of Commerce, 14th Street and Constitution Avenue, NW., Washington, DC 20230; telephone: (202) 482-0413.

SUPPLEMENTARY INFORMATION:

The Applicable Statute and Regulations

Unless otherwise indicated, all citations to the statute are references to the provisions effective January 1, 1995, the effective date of the amendments made to the Tariff Act of 1930 (“the Act”) by the Uruguay Round Agreements Act (“URAA”). In addition, unless otherwise indicated, all citations to the Department's regulations are to the regulations as set forth at 19 CFR 351 (2000).

Background

The Department published in the Federal Register on August 18, 2000 an antidumping duty order on structural steel beams from Korea. See Structural Steel Beams from Korea: Notice of Antidumping Duty Order 65 FR 50502 (August 18, 2000). In an August 30, 2000 letter to the Department, petitioners in the above case requested that the Department conduct a changed circumstances review pursuant to section 751(b) of the Act to determine whether Inchon should properly be considered the successor firm to the pre-merger Inchon and Kangwon, and if, as such, Inchon should maintain the cash deposit rate assigned to Inchon in the investigation. See Final Determination of Sales at Less Than Fair Value: Structural Steel Beams from Korea, 65 FR 41437 (July 5, 2000) (as amended 65 FR 50501 (August 18, 2000)). We published a notice of initiation of a changed circumstances review on September 15, 2000 to determine whether Inchon is the successor to the merger of Inchon and Kangwon. See Initiation of Changed Circumstances Antidumping Duty Administrative Review: Structural Steel Beams from Korea, 65 FR 55944. The Department issued questionnaires on September 29, 2000 and December 1, 2000 and received responses on November 6, 2000 and December 15, 2000. As provided in section 782(i) of the Act, from January 17-19, 2001, the Department conducted an on-site verification of the information on the record. See January 29, 2001 Verification Report at 1. (A public version is located in Room B-099 of the main Department building.) On March 21, 2001, the Department published in the Federal Register the preliminary results of its antidumping duty changed circumstance review. As noted above, the Department did not receive comments from interested parties.

The Department is conducting the changed circumstances review in accordance with 19 CFR 353.22(f).

Scope of Review

The products covered by this review are doubly-symmetric shapes, whether hot-or cold-rolled, drawn, extruded, formed or finished, having at least one dimension of at least 80 mm (3.2 inches or more), whether of carbon or alloy (other than stainless) steel, and whether or not drilled, punched, notched, painted, coated or clad. These products include, but are not limited to, wide-flange beams (“W” shapes), bearing piles (“HP” shapes), standard beams (“S” or “I” shapes), and M-shapes.

All products that meet the physical and metallurgical descriptions provided above are within the scope of this investigation unless otherwise excluded. The following products are outside and/or specifically excluded from the scope of this investigation: structural steel beams greater than 400 pounds per linear foot or with a web or section height (also known as depth) over 40 inches.

The merchandise subject to this investigation is classified in the Harmonized Tariff Schedule of the United States (“HTSUS”) at subheadings: 7216.32.0000, 7216.33.0030, 7216.33.0060, 7216.33.0090, 7216.50.0000, 7216.61.0000, 7216.69.0000, 7216.91.0000, 7216.99.0000, 7228.70.3040, 7228.70.6000. Although the HTSUS subheadings are provided for convenience and Customs purposes, the written description of the merchandise under investigation is dispositive.

Successorship

On the basis of the record developed in this proceeding, we determine that Inchon is the successor-in-interest to the merger of Inchon and Kangwon for the purposes of determining antidumping duty liability. For a complete discussion of the basis for this decision, see the “Preliminary Results.”

Final Results of Changed Circumstances Antidumping Duty Administrative Review

The Department determines Inchon is the successor to the merger of Inchon and Kangwon, and thus, Inchon shall retain the antidumping duty deposit rate assigned to Inchon by the Department in the investigation. We are issuing and publishing this determination and notice in accordance with sections 751(b)(1) and 777(i)(1) of the Act and section 19 CFR 351.221(c)(3)(i).

Dated: June 18, 2001.
Faryar Shirzad,
Assistant Secretary for Import Administration.

[FR Doc. 01-16452 Filed 6-28-01; 8:45 am]

BILLING CODE 3510-DS-P